DEPARTMENT OF COMMERCE

Census Bureau

Proposed Information Collection; Comment Request; National Survey of Children's Health

AGENCY: U.S. Census Bureau, Commerce.

ACTION: Notice.

SUMMARY: The Department of Commerce, as part of its continuing effort to reduce paperwork and respondent burden, invites the general public and other Federal agencies to take this opportunity to comment on proposed and/or continuing information collections, as required by the Paperwork Reduction Act of 1995.

DATES: To ensure consideration, written comments must be submitted on or before January 14, 2019.

ADDRESSES: Direct all written comments to Jennifer Jessup, Departmental Paperwork Clearance Officer, Department of Commerce, Room 6616, 14th and Constitution Avenue NW, Washington, DC 20230 (or via the internet at docpra@doc.gov). You may also submit comments, identified by Docket Number USBC-2018-0016 to the Federal e-Rulemaking Portal: http://www.regulations.gov. All comments received are part of the public record. No comments will be posted to http://www.regulations.gov for public viewing until after the comment period has closed. Comments will generally be posted without change. All Personally Identifiable Information (for example, name and address) voluntarily submitted by the commenter may be publicly accessible. Do not submit Confidential Business Information or otherwise sensitive or protected information. You may submit attachments to electronic comments in Microsoft Word, Excel, WordPerfect, or Adobe PDF file formats only.

FOR FURTHER INFORMATION CONTACT: Requests for additional information or copies of the information collection instrument(s) and instructions should be directed to Leah Meyer, U.S. Census Bureau, ADDP, HQ-7H157, 4600 Silver Hill Road, Washington, DC 20233-0001 (301-763-7174 or via email at Leah.Meyer@census.gov).

SUPPLEMENTARY INFORMATION:

I. Abstract

Sponsored primarily by the U.S. Department of Health and Human Services' (HHS) Health Resources Services Administration's Maternal and Child Health Bureau (HRSA MCHB), the National Survey of Children's Health (NSCH) is designed to produce data on the physical and emotional health of children under 18 years of age who live in the United States. The United States Department of Agriculture (USDA), Environmental Protection Agency (EPA), and United States Department of Health and Human Services' Center for Disease Control and Prevention, National Center on Birth Defects and Developmental Disabilities (HHS/CDC/NCBDDD) sponsor supplemental questions on the NSCH. The NSCH collects information on factors related to the well-being of children, including access to health care, in-home medical care, family interactions, parental health, school and after-school experiences, and neighborhood characteristics. The goal of the 2019 NSCH is to provide HRSA MCHB with the necessary data to support the production of national estimates yearly and state-based estimates with pooled samples on the health and well-being of children, their families, and their communities as well as estimates of the prevalence and impact of children with special health care needs.

Treatment Groups and Experiments

We have made minor content revisions for the 2019 NSCH. We also plan to monitor the continued effectiveness of unconditional incentives (the relative benefit for reducing survey non-response by providing a $0, $1, $2, or $5 incentive as a token of appreciation) and modifications to data collection strategies based on modeled information about paper or internet response preference. We will test an envelope overprint, a short message and simple image printed to the outside of the invitation envelope, designed to encourage respondents to open and read the invitation and a modified design for the screener invitation letter. We will also conduct a small test of a new screener card, a mechanism to more efficiently screen address eligibility. We will select approximately 184,000 addresses as the 2019 NSCH sample; around 4,000 of those addresses will be randomly assigned to the screener card test. Results from prior year surveys were used to inform the decisions made regarding this 2019 survey project.

Based on the results from prior survey cycles and available funds, an unconditional cash incentive will be included with the initial mailing. Survey research indicates that incentives are a necessary and cost‐effective expense for achieving a response rate that minimizes nonresponse bias ¹. Our testing to date is consistent with this research. Evaluation of previous NSCH cycles showed that there was a statistically significant difference in the response rates when respondents received an incentive compared to those who were part of the control group that did not receive an incentive. The effect of the incentive was proportionately larger for household types that were less likely to respond in previous years, reducing nonresponse bias. There was a larger increase in response for households mailed a $5 incentive compared to those mailed a $2 incentive with their initial survey invite; both treatments proved effective at encouraging response and reducing nonresponse bias in 2018. We will continue to use $2 and $5 cash incentives going forward, and will include a test of a $1 cash incentive. A small group (20% or less) receiving no incentive will be included to monitor the effectiveness of the incentive in the initial mailing. For respondents who answer a paper screener interview and are mailed their first paper topical questionnaire, a $5 incentive will be used to reduce bias and gain cooperation for this critical second stage of paper questionnaire data collection.

¹ Brick JM, Williams D, Montaquila JM. 2011. “Address‐Based Sampling for Subpopulation Surveys”. Public Opinion Quarterly, 75(3): 409-28; Foster EB, Frasier AM, Morrison HM, O'Connor KS, Blumberg SJ. 2010. “All Things Incentive: Exploring the Best Combination of Incentive Conditions”. Paper presented at the American Association for Public Opinion Research annual conference, Chicago, IL.

In addition to testing incentives and developing materials, the 2019 NSCH will continue to serve as a platform to evaluate different nonresponse follow-up mailing strategies based on a household's likelihood to respond using a paper questionnaire. We assign a paper-preference probability to every address using American Community Survey (ACS) response mode choices, previous NSCH response mode choices, and small area geographic characteristics. The 30% of addresses with the highest paper-preference probability are assigned to the “High Paper” group and receive a paper questionnaire with the initial invitation. The other 70% of addresses are assigned to the “High Web” group and receive their first paper questionnaires in the second nonresponse follow-up screener invitation.

Since there continues to be a significant potential for cost savings for web data collection over paper data collection, we are working to refine and retest an internet response indicator for future NSCH production cycles based on the results from prior data collection efforts.

In 2019 and beyond, we will continue the use of a pressure-sealed reminder postcard. The reminder postcard will be mailed approximately one week after the initial survey invite mailing and the first nonresponse follow-up. We originally implemented this strategy because the time gap between mailings during the 2016 NSCH proved too long, and a significant dip in response flow was observed between mailings. The pressure-sealed postcard reminder proved effective in 2017 and 2018 at boosting response from the initial mailing and, in 2018, the first nonresponse follow-up. The ability to send reminders enclosed with a pressure-seal system allows us to include login information for the Centurion web instrument as well as specific information about the survey. The postcard also allows us to include a paragraph in Spanish that will direct the respondent to the Spanish web survey or the Telephone Questionnaire Assistance (TQA) line for assistance.

As in prior administration of the NSCH, the 2019 NSCH will have a TQA line available to respondents who experience technical problems with the web instrument, have questions about the survey, or need other forms of assistance. TQA staff will be able to answer respondent questions and concerns, and also collect survey responses over the phone—if the respondent calls in and would like to have interviewer assistance in completing the interview. Also, respondents can submit questions by email. Email Questionnaire Assistance (EQA) agents will monitor the email account inbox and respond promptly.

The 2018 NSCH tested a certified mail sticker, designed to encourage respondents to open the invitation envelope and respond to the NSCH. The sticker significantly increased response, but did not reduce nonresponse bias. The sticker also introduced logistical challenges that make current use as a treatment option untenable. Instead, we will test an envelope overprint, which is a short message on the outside of the envelope that can potentially encourage response and reduce nonresponse bias. Half of addresses (approximately 90,000) will receive the screener invitation in an envelope with the overprint; the other half of addresses will receive our standard white envelope. Packages can also include a modified version of the invitation letter designed to make the text more accessible, such as relocating some necessary information to a text box with a boundary.

In both internet and paper collection modes, the survey design for the 2019 NSCH focuses on first collecting information about the children in the household and basic special health care needs, and then selecting a child from the household for follow-up to collect additional detailed topical information. If there is more than one eligible child in a household, a single child will be selected based on a sampling algorithm that considers the age and number of children as well as the presence of children with special health care needs. We estimate that, from the original 180,000 selected addresses that are assigned to the primary production cycle (excluding the 4,000 addresses assigned to the screener card test), our target screener return rate of 40.5% will yield approximately 72,900 responses to the screener. We then estimate that 50% of households from the first phase of the screener will be eligible to receive a topical questionnaire (households with children), and 70% of these households with children will return the topical questionnaire, resulting in approximately 25,515 completed topical interviews.² A household could be selected for one of three age-based topical surveys: 0-to-5-year-old children, 6-to-11-year-old children, or 12-to-17-year-old children.

² The topical return rate was calculated using an average of the web topical return rate (95%) and the paper topical return rate (45%). The return rate includes fully complete topicals and sufficient partial topicals out of all completed screeners. The completion rate (31% for topicals) and response rate (40.4%) calculations on the following page additionally includes households in the denominator that are estimated to have eligible children, but who did not complete screeners.

For the 4,000 screener card test addresses, we anticipate that 50% (2,000 addresses) will return the screener card and 10% (400 addresses) will use the web instrument.

Census staff have developed a plan to select a production sample of approximately 184,000 households (addresses) from a Master Address File (MAF)-based sampling frame, with split panels to test mode of administration (i.e., high-web and low-web), and improvements to contact materials and strategies. Based on results of the prior NSCH incentive experiments, we plan to use small, unconditional cash incentives with a control group receiving no incentive to monitor the effectiveness of the incentive expenditures. For respondents who answer the paper screener and are mailed a paper topical questionnaire, an additional incentive is expected for that mailing. The recommendation for the amount of this secondary incentive will be based on the results of the 2016 NSCH and available funding. From prior cycles of the NSCH, using American Association for Public Opinion Research (AAPOR) definitions of response, we can expect an overall screener completion rate for the 2019 NSCH to be about 45% and a 31% overall topical completion rate.³ This is different from the total overall response rate, which we expect to be about 40.4%.⁴

³ Screener Completion Rate is the propotion of screener-eligible households (i.e., occupied residences) that completed a screener. It is equal to (S+X)/(S+X+R+e(UR+UO)), where S is the count of completed screeners with children, X is completed screeners without children, R, is screener refusals, and e(UR+UO) is the estimated count of screener eligible households among nonresponding addressess.

The Tropical Completion Rate is the proportion of topical-eligible houshoulds (i.e., occupied residences with children present) that completed a topical questionnaire. It is equal to I/HCt, where I is the count of completed topicals and HCt is the estimated count of households with children in the sample or S+R+(S+R)/(S+X+R)*e(UR+UO).

⁴ Total Response Rate is the proportion of screener-eligible households that completed a screener or topical questionnaire. It is equal to (X+I+P)/(X+I+P+RS+eUS), where I is the count of completed topicals, P is the count of sufficient partial completed topicals, RS is screener refusals, and eUS is the estimated count of screener eligible households among nonresponding addresses.

II. Method of Collection

Web Push

The production 2019 NSCH plan for the web push data collection design includes 70% of the estimated 180,000 primary production addresses receiving an initial invite with instructions on how to complete an English or Spanish-language screening questionnaire via the web. Households that decide to complete the web-based survey will be taken through the screening questionnaire to determine if they screen into one of the three topical instruments. Households that list at least one child who is 0 to 17 years old in the screener are directed into a topical questionnaire immediately after the last screener question. If a household in the web push treatment group decides to complete the paper screener, the household may have a chance to receive an additional topical questionnaire incentive.

Mixed-Mode

The production 2019 NSCH plan for the mixed-mode data collection design includes approximately 30% of the 180,000 primary production addresses receiving both an initial invite with a paper screening questionnaire and instructions on how to complete an English or Spanish language screening questionnaire via the web. Households that decide to complete the web-based survey will follow the same screening and topical selection path as the web push. Households that choose to complete the paper screener questionnaire rather than completing the survey on the internet and that have eligible children will be mailed a paper topical questionnaire upon receipt of their completed paper screener at the Census Bureau's National Processing Center. If a household in the mixed-mode group chooses to complete the paper screener instead of completing by internet, then the household may receive an additional topical questionnaire incentive.

Follow-Up Reminder Design

Prior to Census administration of the survey, the NSCH was conducted by the Health Services Resources Administration's Maternal and Child Health Bureau and the National Center for Health Statistics. As such, the survey information was sent to respondents under letterhead from the Department of Health and Human Services and the Centers for Disease Control and Prevention, with the Director of NCHS signing the letters to the respondent.

In the 2016 NSCH, we tested both standard contact branding utilized for Census Bureau surveys, which included Census Bureau letterhead and the Census Director's signature, and an alternative sent with HRSA MCHB branding. The first follow-up mailing, sent to non-responding households approximately three-weeks after their initial invitation to respond to the survey by web, was split into two groups. The first group was sent a reminder to participate with their web login and password under standard Census Bureau letterhead. Response was higher from those addresses receiving the standard Census branding.

Non-Response Follow-Up for the “High Web” Group and “High Paper” Group

The “High Web” group will receive two web survey invitation letters requesting their participation in the survey prior to receiving their first paper screener questionnaire in the second follow-up mailing. The “High Paper” group will receive both a web survey invitation letter along with a mailed paper screener questionnaire with the initial invitation and each follow-up mailing. Once a household in the “High Web” group receives a paper screener questionnaire, it will then have the option to either complete the web-based survey or complete the mailed paper screener, similar to the “High Paper” group. If the household chooses to complete the mailed paper questionnaire, then they would then be considered part of the mailout/mailback paper-and-pencil interviewing treatment group. The paper-and-pencil treatment group receives a paper topical questionnaire, if there is at least one eligible child who is 0 to 17 years old listed on the screener. Nonresponse follow-up for the topical questionnaire will include up to one pressure-sealed postcard and up to three mailings including the paper topical questionnaire.

The 2019 NSCH will also include a small screener card test. The screener card is a single-page instrument designed to screen household eligibility for the NSCH. An additional 4,000 addresses will receive the screener card in place of the traditional screener instrument. They will have the option to report only if there are children present at the address or not. Respondents will also have the option to report using the web instrument. We anticipate that the screener card instrument will reduce respondent burden for households without children and allow us to more efficiently identify households with children.

III. Data

OMB Control Number: 0607-0990.

Form Number(s): NSCH-S1 (English Screener), NSCH-T1 (English Topical for 0- to 5-year-old children), NSCH-T2 (English Topical for 6- to 11-year-old children), NSCH-T3 (English Topical for 12- to 17-year-old children), NSCH-S-S1 (Spanish Screener), NSCH-S-T1 (Spanish Topical for 0- to 5-year-old children), NSCH-S-T2 (Spanish Topical for 6- to 11-year-old children), NSCH-S-T3 (Spanish Topical for 12- to 17-year-old children), and NSCH-SC1 (Screener Card—perforated).

Type of Review: Regular submission.

Affected Public: Parents, researchers, policymakers, and family advocates.

Estimated Number of Respondents: 72,900 for the screener, 25,515 for the topical, 2,000 for the screener card, and 400 screener card respondents using the web instrument.

Estimated Time per Response: 5 minutes per screener response, 33 minutes per topical response, 2 minutes per screener card response, and 38 minutes per screener card response using the web instrument.

Estimated Total Annual Burden Hours: 20,428 hours.

Estimated Total Annual Cost to Public: $0 (This is not the cost of respondents' time, but the indirect costs respondents may incur for such things as purchases of specialized software or hardware needed to report, or expenditures for accounting or records maintenance services required specifically by the collection.)

Respondent's Obligation: Voluntary.

Legal Authority: Title 13 U.S.C. Section 8(b);42 U.S.C. 701; 1769d(a)(4)(B); 42 U.S.C. 241; 7 U.S.C. 136r(a); and 15 U.S.C. 2609.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Sheleen Dumas,
Departmental Lead PRA Officer, Office of the Chief Information Officer.

[FR Doc. 2018-24681 Filed 11-9-18; 8:45 am]

BILLING CODE 3510-07-P